DEPARTMENT OF HOMELAND SECURITY

Coast Guard

46 CFR Parts 71, 114, 115, 122, 170, 171, 172, 174, 175, 176, 178, 179, and 185

[Docket No. USCG-2007-0030]

RIN 1625-AB20

Passenger Weight and Inspected Vessel Stability Requirements

AGENCY: Coast Guard, DHS.

ACTION: Proposed rule; reopening of comment period.

SUMMARY: The Coast Guard is reopening the period for public comment on its notice of proposed rulemaking (NPRM) on regulations governing the stability of passenger vessels and the maximum number of passengers that may safely be permitted on board a vessel. The comment period will close on March 20, 2009.

DATES: The comment period for the proposed rule published at 73 FR 49244, August 20, 2008, and reopened at 73 FR 74426, December 8, 2008, is again reopened. Comments and related material must be received on or before March 20, 2009.

ADDRESSES: You may submit comments identified by docket number USCG-2007-0030 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these methods. For instructions on submitting comments, see the “Public Participation and Request for Comments” portion of the SUPPLEMENTARY INFORMATION section below.

FOR FURTHER INFORMATION CONTACT: If you have questions on this notice, call Mr. William Peters, U.S. Coast Guard, Office of Design and Engineering Standards, Naval Architecture Division (CG-5212), telephone 202-372-1371. If you have questions on viewing or submitting material to the docket, call Renee V. Wright, Program Manager, Docket Operations, telephone 202-366-9826.

SUPPLEMENTARY INFORMATION:

Public Participation and Request for Comments

The Coast Guard has requested comments as to all aspects of the rulemaking. We particularly encourage you at this time to submit comments and related material on the “Pontoon Vessel Passenger Crowding Stability Criteria Study, Appendix 1.” All comments received will be posted, without change, to http://www.regulations.gov and will include any personal information you have provided.

Submitting comments: If you submit a comment, please include the docket number for this notice (USCG-2007-0030) and provide a reason for each suggestion or recommendation. You may submit your comments and material online, or by fax, mail or hand delivery, but please use only one of these means. We recommend that you include your name and a mailing address, an e-mail address, or a phone number in the body of your document so that we can contact you if we have questions regarding your submission.

To submit your comment online, go to http://www.regulations.gov, select the Advanced Docket Search option on the right side of the screen, insert “USCG-2007-0030” in the Docket ID box, press Enter, and then click on the balloon shape in the Actions column. If you submit your comments by mail or hand delivery, submit them in an unbound format, no larger than 8½ by 11 inches, suitable for copying and electronic filing. If you submit them by mail and would like to know that they reached the Facility, please enclose a stamped, self-addressed postcard or envelope. We will consider all comments and material received during the comment period.

Viewing comments and Appendix 1: To view the comments and the “Pontoon Vessel Passenger Crowding Stability Criteria Study, Appendix 1” go to http://www.regulations.gov, select the Advanced Docket Search option on the right side of the screen, insert USCG-2007-0030 in the Docket ID box, press Enter, and then click on the item in the Docket ID column. If you do not have access to the Internet, you may view the docket online by visiting the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act: Anyone can search the electronic form of comments received into any of our dockets by the name of the individual submitting the comment (or signing the comment, if submitted on behalf of an association, business, labor union, etc.). You may review a Privacy Act, system of records notice regarding our public dockets in the January 17, 2008 issue of the Federal Register (73 FR 3316).

Background and Purpose

On August 20, 2008, The Coast Guard published an NPRM entitled “Passenger Weight and Inspected Vessel Stability Requirements” (73 FR 49244). During the NPRM's original comment period, which ended November 18, 2008, members of the public requested that the Coast Guard add to the docket a study cited in support of certain stability findings that resulted in proposed changes to 46 CFR 171 in the NPRM.

The 12-page study, entitled the “Pontoon Vessel Passenger Crowding Stability Criteria Study,” was added to the docket on October 30, 2008 (document number USCG-2007-0030-0139.1). Following the addition of the study, members of the public stated that they did not have sufficient time to review and comment on this study before the close of the comment period. On December 8, 2008, the Coast Guard reopened the comment period for 60 days to afford the public additional time to comment (73 FR 74426).

During the reopened comment period the Coast Guard became aware that an appendix to the study, that had not been previously released, would assist the public in understanding the Pontoon Vessel Passenger Crowding Stability Criteria Study. We added this information, entitled “Pontoon Vessel Passenger Crowding Stability Criteria Study, Appendix 1” to the docket on February 09, 2009 (document number USCG-2007-0030-0204.1). In order to ensure the public has sufficient time to utilize the information in the appendix we will reopen the comment period, which closed February 6, 2009, for 30 additional days. The comment period will close on March 20, 2009. Additionally, you are reminded that you may comment on any aspect of the rulemaking, including on any comments placed in the docket. We may change the proposed rules in response to the comments received.

Dated: February 10, 2009.
J.G. Lantz,
Director of Commercial Regulations and Standards, U.S. Coast Guard.

[FR Doc. E9-3155 Filed 2-17-09; 8:45 am]

BILLING CODE 4910-15-P